DEPARTMENT OF TRANSPORTATION

Federal Motor Carrier Safety Administration

[Docket No. FMCSA-2005-23032]

Agency Information Collection Activities; Request for Comments; Renewed Approval of Information Collections: OMB Control Numbers 2126-0032 and 2126-0033 (Financial and Operating Statistics for Motor Carriers of Property)

AGENCY: Federal Motor Carrier Safety Administration (FMCSA), DOT.

ACTION: Notice and request for comments.

SUMMARY: FMCSA invites public comment on its intent to request approval from the Office of Management and Budget (OMB) to renew two information collections entitled, “The Annual Report of Class I and Class II Motor Carriers of Property (Form M)” and “The Quarterly Report of Class I Motor Carriers of Property (Form QFR).” These information collections are necessary to ensure that motor carriers comply with FMCSA's financial and operating statistics (F&OS) program requirements. This notice is required by the Paperwork Reduction Act of 1995.

DATES: Comments must be submitted on or before March 20, 2006.

ADDRESSES: You may mail or hand deliver comments to the U.S. Department of Transportation, Dockets Management Facility, Room PL-401, 400 Seventh Street, SW., Washington, DC 20590; telefax comments to 202/493-2251; or submit electronically at http://dms.dot.gov. Comments should reference Docket No. FMCSA-2005-23032. All comments may be examined and copied at the above address from 9 a.m. to 5 p.m., Monday through Friday, except Federal holidays. If you desire your comment to be acknowledged, you must include a self-addressed stamped envelope or postcard or, if you submit your comments electronically, you may print the acknowledgment.

FOR FURTHER INFORMATION CONTACT: Ms. Toni Proctor, Office of Research and Analysis, phone (202) 366-2998, FAX (202) 366-3518, e-mail toni.proctor@fmcsa.dot.gov, Federal Motor Carrier Safety Administration, 400 Seventh Street, SW., Suite 8214, Washington, DC 20590. Office hours are from 8 a.m. to 4 p.m., ET, Monday through Friday, except Federal holidays.

SUPPLEMENTARY INFORMATION: (1) Title: Annual Report of Class I and Class II Motor Carriers of Property (former OMB Control Number 2139-0004 information collection transferred from Bureau of Transportation Statistics (BTS) to FMCSA on November 8, 2004).

OMB Control No: 2126-0032.

Form No.: Form M.

Type of Review: Extension of a currently approved collection.

Respondents: Class I and Class II Motor Carriers of Property.

Number of Respondents: 3,000 (per year).

Estimated Time per Response: 9 hours.

Expiration Date: January 31, 2006.

Frequency: Annually.

Total Annual Burden: 27,000 hours.

(2) Title: Quarterly Report of Class I and Class II Motor Carriers of Property (former OMB Control Number 2139-0002 information collection transferred from BTS to FMCSA on November 8, 2004).

OMB Control No: 2126-0033.

Form No.: Form QFR.

Type of Review: Extension of a currently approved collection.

Respondents: Class I Motor Carriers of Property.

Number of Respondents: 1,000 (per quarter).

Estimated Time per Response: 1.8 hours (27 minutes per quarter).

Expiration Date: January 31, 2006.

Frequency: Quarterly.

Total Annual Burden: 1,800 hours.

Background

The Annual Report of Class I and Class II Motor Carriers of Property (Form M) and the Quarterly Report of Class I Motor Carriers of Property (Form QFR) are mandated reporting requirements for for-hire motor carriers. Motor carriers subject to the Federal Motor Carrier Safety Regulations are classified on the basis of their gross carrier operating revenues (including interstate and intrastate).¹ Under the F&OS program, FMCSA collects balance sheet and income statement data along with information on safety needs, tonnage, mileage, employees, transportation equipment, and other related data. FMCSA may also ask carriers to respond to surveys concerning their operations. The data and information collected will be made publicly available and used by FMCSA to determine a motor carrier's compliance with the F&OS program requirements prescribed at subchapter B of 49 CFR part 1420.

¹ For purposes of the F&OS program, carriers are classified into the following three groups; (1) Class I carriers are those having annual carrier operating revenues (including interstate and intrastate) of $10 million or more after applying the revenue deflator formula in Note A of 49 CFR 1420; (2) Class II carriers are those having annual carrier operating revenues (including interstate and intrastate) of at least $3 million but less than $10 million after applying the revenue deflator formula in Note A of 49 CFR 1420; and (3) Class III carriers are those having annual carrier operating revenues (including interstate and intrastate) of less than $3 million after applying the revenue deflator formula in Note A of 49 CFR 1420.

The regulations were formerly administered by the Interstate Commerce Commission and later transferred to the U.S. Department of Transportation on January 1, 1996 by section 103 of the Interstate Commerce Commission Termination Act of 1995 (Pub. L. 104-88, December 29, 1995, 109 Stat. 803) codified at 49 U.S.C. 14123. The Secretary of Transportation (Secretary) transferred the authority to administer the F&OS program to BTS on September 30, 1998 (63 FR 52192). Pursuant to this authority, BTS, now part of the Research and Innovative Technology Administration (RITA), became the responsible DOT modal administration for implementing the F&OS program and requirements in 49 CFR 1420. On September 29, 2004, the Secretary transferred the responsibility for the F&OS program from BTS to FMCSA (69 FR 51009). The latter agency plans to publish a final rule in the future to transfer and redesignate the F&OS reporting requirements from BTS (now RITA) to FMCSA.

Public Comments Invited

You are asked to comment on any aspect of this information collection, including: (1) Whether the proposed collection is necessary for FMCSA's performance; (2) the accuracy of the estimated burden; (3) ways for FMCSA to enhance the quality, usefulness, and clarity of the collected information; and (4) ways that the burden could be minimized without reducing the quality of the collected information. The agency will summarize and/or include your comments in the request for OMB's clearance of this information collection.

Issued on January 11, 2006.
Annette M. Sandberg,
Administrator.

[FR Doc. E6-453 Filed 1-17-06; 8:45 am]

BILLING CODE 4910-EX-P